DEPARTMENT OF JUSTICE

Antitrust Division

Notice Pursuant to the National Cooperative Research and Production Act of 1993—Automotive Lift Institute—Certification Program

Notice is hereby given that, on October 29, 2004, pursuant to section 6(a) of the National Cooperative Research and Production Act of 1993, 15 U.S.C. 4301 et seq. (“the Act”), Automotive Lift Institute-Certification Program (“ALI-CP”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Automotive Lift Institute—Certification Program, Indialantic, FL. The nature and scope of ALI-CP's standards development activities are: development of automotive lift safety standards including, but not limited to, standards for design, construction, testing, validation (certification), operation, inspection, maintenance, installation, and service.

Dorothy B. Fountain,
Deputy Director of Operations, Antitrust Division.

[FR Doc. 04-25848 Filed 11-19-04; 8:45 am]

BILLING CODE 4410-11-M